DEPARTMENT OF JUSTICE

Antitrust Division

Notice Pursuant to the National Cooperative Research and Production Act of 1993—Customer Experience Hub

Notice is hereby given that, on April 17, 2024, pursuant to section 6(a) of the National Cooperative Research and Production Act of 1993, 15 U.S.C. 4301 et seq. (“the Act”), The Customer Experience Hub (“CX Hub”) has filed written notifications simultaneously with the Attorney General and the Federal Trade Commission disclosing changes in its membership. The notifications were filed for the purpose of extending the Act's provisions limiting the recovery of antitrust plaintiffs to actual damages under specified circumstances.

Specifically, 3 Aware LLC, Indianapolis, IN; Adeco LLC, Houston, TX; AGAPE Strategic Solutions of Maryland LLC, Hyattsville, MD; Alliance NCTN Foundation, Chicago, IL; Allvivo Vascular, Inc., Lake Forest, CA; American Cancer Society Cancer Action Network, Washington, DC; American Cancer Society, Inc., Atlanta, GA; American College of Radiology, Reston, VA; American Military Families Action Network, Tacoma, WA; Apricity Health, Inc., Houston, TX; Artyc PBC, Fremont, CA; Asante Bio, Tampa, FL; Austin Healthcare Council, Austin, TX; Baylor Research Institute dba Baylor Scott & White Research Institute, Dallas, TX; Beth Israel Lahey Health, Cambridge, MA; Betty's Health Company LLC dba Betty's Co., San Antonio, TX; BioInnovation Labs dba BioLabs, Cambridge, MA; BioNorthTexas Foundation, Irving, TX; Boston University, Boston, MA; Breathe Chicago Center at University of Illinois Chicago, Chicago, IL; Capital Factory Properties LLC, Austin, TX; Care Access Research LLC, Boston, MA; Carson Leslie Foundation, Dallas, TX; CentanniPark LLC, Somerville, MA; Central Indiana Corporate Partnership, Indianapolis, IN; CFD Research Corp., Huntsville, AL; Charles River Analytics, Inc., Cambridge, MA; Chicago ARC, Glenview, IL; Children's Cancer Therapy Development Institute, Hillsboro, OR; Clarivate Analytics (US) LLC, Ann Arbor, MI; Clinical Research Philadelphia LLC, Philadelphia, PA; Clinical Trials Transformation Initiative, Durham, NC; CliniOps, Inc., Fremont, CA; Cogitativo, Inc., Berkeley, CA; Critical Path Institute, Tucson, AZ; Cromtec Cyber Solutions, Inc., Houston, TX; Cx Precision Medicine, Fort Worth, TX; Dallas-Fort Worth Hospital Council, Irving, TX; Datavant, Inc., Phoenix, AZ; Decentralized Trials & Research Alliance (DTRA), San Diego, CA; DHR Health Institute for Research & Development, Edinburg, TX; Digital Medicine Society, Inc., Boston, MA; Driscoll Children's Hospital, Corpus Christi, TX; Duke University, Durham, NC; Endpoint Health, Palo Alto, CA; Environmental Information Systems Corp., Las Vegas, NV; Every Cure, Philadelphia, PA; Evidation Health, San Mateo, CA; Exo Imagining, Inc., Santa Clara, CA; Florida Institute of Technology, Inc., Melbourne, FL; Freyya, Inc., San Antonio, TX; Genetic Alliance, Inc., Damascus, MD; Global Coalition for Adaptive Research, Inc., Larkspur, CA; Guava Health, Inc., Santa Barbara, CA; Gulf South Clinical Trials Network, New Orleans, LA; Halo Health Systems, Plano, TX; Hamilton Health Box, Inc., Houston, TX; Harvard T.H. Chan School of Public Health, Boston, MA; Health Level Seven International, Inc., Ann Arbor, MI; Health Tech Austin, Austin, TX; Health Wildcatters, Dallas, TX; Healthcare Innovators Professional Society, Houston, TX; Hero Medical Technologies, Inc., Ponte Vedra Beach, FL; Hope Biosciences LLC, Sugar Land, TX; Huck Medical Technologies, Inc., Jacksonville, FL; Indiana University, Bloomington, IN; Insilicom LLC, Tallahassee, FL; Institute for Systems Biology, Seattle, WA; Iowa State University of Science and Technology, Ames, IA; IQVIA Government Solutions, Inc., Falls Church, VA; iTrials, Ashburn, VA; JAKTOOL LLC, Cranbury, NJ; LaunchBio, Inc., San Diego, CA; Levels Health, Austin, TX; Lone Star Stroke Research Consortium, San Antonio, TX; Mary Crowley Cancer Research, Dallas, TX; Massachusetts Health & Hospital Association, Burlington, MA; MATRIX AI Consortium, San Antonio, TX; Mayo Clinic, Rochester, MN; Meadows Mental Health Policy Institute, Dallas, TX; Mercury Data Science, Inc. dba OmniScience, Houston, TX; Milken Institute, Washington, DC; Modern Trials, Inc., Haddon Township, NJ; Momentum Design Lab LLC, San Mateo, CA; MPR Associates, Inc., Alexandria, VA; Music Beats Cancer, Washington, DC; MyEyes LLC, Heber, UT; NanOlogy LLC, Fort Worth, TX; Neelyx Labs, Inc., Wood Dale, IL; Panthera BioSolutions, Fort Worth, TX; Persown, Inc., Jacksonville, FL; Phage Refinery LLC, San Antonio, TX; Polaris Alpha Advanced Systems, Inc., Fredericksburg, VA; Precise Populations, Austin, TX; Providence Health & Services, Renton, VA; Quality by Randomization Ltd. dba Protas, Salford, UNITED KINGDOM; Quantum Leap Healthcare Collaborative, San Francisco, CA; Quidel Corp. dba QuidelOrtho, San Diego, CA; Radiological Society of North America, Inc., Oak Brook, IL; Retina Foundation, Dallas, TX; Rhode Island Health Center Association, Providence, RI; Rock Health Foundation, San Francisco, CA; Ruth Health, Bronx, NY; Safe Health Systems, Inc., Scottsdale, AZ; San Diego State University Foundation, San Diego, CA; Segal Design Institute at Northwestern University, Evanston, IL; Seven Bridges Genomics, Inc., Boston, MA; SiteBridge Research, Inc., Chapel Hill, NC; Southern Research Institute, Birmingham, AL; Spark Biomedical, Inc., Dallas, TX; SRI International, Menlo Park, CA; St. Mary's University of San Antonio, Texas, San Antonio, TX; SygnaMap, Inc., San Antonio, TX; Systems & Technology Research LLC, Woburn, MA; Texas A&M University System Health Science Center, Bryan, TX; The Children's Hospital of Philadelphia, Philadelphia, PA; The Medical College of Wisconsin, Inc., Milwaukee, WI; The Medical University of South Carolina, Charleston, SC; The Methodist Hospital Research Institute, Houston, TX; The Regents of the University of California, San Francisco, San Francisco, CA; The University of Kansas Medical Center Research Institute, Inc., Kansas City, KS; The University of Texas at Arlington, Arlington, TX; The University of Texas Health Science Center at San Antonio, San Antonio, TX; Tonix Pharmaceuticals, Chatham, NJ; TQIntelligence, Inc., Tucker, GA; Tremedics Medical Devices LLC, Fort Worth, TX; Trustees of the University of Pennsylvania dba Clinical Practices of the University of Pennsylvania, Philadelphia, PA; UC Berkeley Haas Institute for Business Innovation, Berkeley, CA; UCSF: Eureka Research Platform, San Francisco, CA; University of Alabama at Birmingham, Birmingham, AL; University of Chicago, Chicago, IL; University of Colorado Anschutz Medical Campus, Aurora, CO; University of Iowa, Iowa City, IA; University of Massachusetts Medical School, Worcester, MA; University of the Virgin Islands, St. Thomas, VI; University of Utah, Salt Lake City, UT; Vanderbilt University Medical Center, Nashville, TN; Women's Health Access Matters, Greenwich, CT; Yunu, Inc., Cary, NC; and ZS Associates, Inc., Evanston, IL, have been added as parties to this venture.

No other changes have been made in either the membership or planned activity of the group research project. Membership in this group research project remains open, and the CX Hub intends to file additional written notifications disclosing all changes in membership.

On January 11, 2024, the CX Hub filed its original notification pursuant to section 6(a) of the Act. The Department of Justice published a notice in the Federal Register pursuant to section 6(b) of the Act on April 16, 2024 (89 FR 26929).

Suzanne Morris,
Deputy Director Civil Enforcement Operations, Antitrust Division.

[FR Doc. 2024-13623 Filed 6-20-24; 8:45 am]

BILLING CODE P